DEPARTMENT OF HEALTH AND HUMAN SERVICES

Administration for Children and Families

Notice of Meeting; National Commission on Children and Disasters

AGENCY: Administration for Children and Families, Department of Health and Human Services.

ACTION: Notice, FACA Committee Meeting Announcement.

SUMMARY: Pursuant to Public Law 92-463, the Federal Advisory Committee Act, as amended (5 U.S.C. Appendix 2), notice is hereby given of the First Meeting of the National Commission on Children and Disasters, Department of Health and Human Services. The meeting will be held from approximately 8:30 a.m. to 5 p.m. on Tuesday, October 14, 2008, at the Administration for Children and Families, 370 L'Enfant Promenade, SW., Washington, DC. The meeting will be open to the public; however, seating is limited and pre-registration is encouraged (see below).

FOR FURTHER INFORMATION CONTACT: Roberta Lavin, Office of Human Services Emergency Preparedness and Response, e-mail roberta.lavin@acf.hhs.gov or (202) 401-9306.

SUPPLEMENTARY INFORMATION: The National Commission on Children and Disasters (henceforth “the Commission”) is a commission that shall independently conduct a comprehensive study to examine and assess the needs of children as they relate to preparation for, response to, and recovery from all hazards, building upon the evaluations of other entities and avoiding unnecessary duplication by reviewing the findings, conclusions, and recommendations of these entities. The Commission shall then submit a report to the President, the Secretary of Health and Human Services, and the Congress on the Commission's independent and specific findings, conclusions, and recommendations to address the needs of children as they relate to preparation for, response to, and recovery from all hazards, including major disasters and emergencies. The Commission implements the intent of Congress as expressed in The Consolidated Appropriations Act, 2008 (Pub. L. 110-161), Division G, Title VI, (henceforth “the Act”) signed into law on December 26, 2007, authorizing funds for a body performing the functions here assigned to the Commission.

The Commission will hear presentations on and discuss: (1) The Department of Health and Human Services' efforts to support the needs of children in disaster situations; (2) the Federal Emergency Management Administration's efforts to support the needs of children in disaster situations; (3) White House perspectives on the Administration's efforts to support the needs of children in disaster situations; and (4) plans for future work of the Commission.

The meeting will be open to the public; however, seating is limited and pre-registration is encouraged. To pre-register, please e-mail carol.apelt@acf.hhs.gov with “Meeting Registration” in the subject line, or call Carol Apelt at (202) 205-4618 by 5 p.m. EST, October 9, 2008. Registration must include your name, affiliation, phone number. If you require a sign language interpreter or other special assistance, please call Carol Apelt at (202) 205-4618 as soon as possible and no later than October 6, 2008.

Dated: September 24, 2008.
Charles Keckler,
Deputy Assistant Secretary for Policy for Children and Families.

[FR Doc. E8-22939 Filed 9-29-08; 8:45 am]

BILLING CODE 4184-01-P